DEPARTMENT OF COMMERCE

National Oceanic and Atmospheric Administration

[RTID 0648-XA145]

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council (Council) will hold webinar meeting to consider actions affecting the Gulf of Mexico fisheries in the exclusive economic zone (EEZ).

DATES: The meeting will convene Tuesday, May 12, 2020; 10 a.m. until 12 p.m., EDT.

ADDRESSES: The meeting will take place via webinar. You may register for the meeting by visiting www.gulfcouncil.org/meetings.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

The meeting will begin with a Call to Order, Announcements, Introductions and Adoption of Agenda. The Council will review the Scope of Work and discuss proposed changes to the Statement of Organization Practices and Procedures (SOPPS)—Section 3.0 Council Meetings; and, hold a discussion about the June Council meeting. The Council will hold public comment testimony from 11 a.m. until 12 p.m. (EDT) for SOPPS: Section 3.0—Council Meetings, and open testimony on other fishery issues or concerns.

Lastly, the Council will discuss any other business items.

—Meeting Adjourns

The meeting will be broadcast via webinar only. You may register for the webinar by visiting www.gulfcouncil.org and clicking on the Council meeting on the calendar.

The established times for addressing items on the Council agendas may be adjusted as necessary to accommodate the timely completion of discussion relevant to the agenda items. Public comment may begin earlier than 11 a.m. EDT, but will not conclude before that time.

Although other non-emergency issues not contained in this agenda may come before this group for discussion, in accordance with the Magnuson-Stevens Fishery Conservation and Management Act (Magnuson-Stevens Act), those issues may not be the subject of formal action during this meeting. Actions will be restricted to those issues specifically listed in this notice and any issues arising after publication of this notice that require emergency action under section 305(c) of the Magnuson-Stevens Act, provided that the public has been notified of the Council's intent to take final action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: April 23, 2020.
Tracey L. Thompson,
Acting Deputy Director, Office of Sustainable Fisheries, National Marine Fisheries Service.

[FR Doc. 2020-08981 Filed 4-27-20; 8:45 am]

BILLING CODE 3510-22-P